DEPARTMENT OF COMMERCE

International Trade Administration

Notice of Scope Rulings

AGENCY: Enforcement and Compliance, International Trade Administration, Department of Commerce.

DATES: Applicable March 3, 2020.

SUMMARY: The Department of Commerce (Commerce) hereby publishes a list of scope rulings and anti-circumvention determinations made during the period October 1, 2019 through December 31, 2019. We intend to publish future lists after the close of the next calendar quarter.

FOR FURTHER INFORMATION CONTACT: Marcia E. Short, AD/CVD Operations, Customs Liaison Unit, Enforcement and Compliance, International Trade Administration, U.S. Department of Commerce, 1401 Constitution Avenue NW, Washington, DC 20230; telephone: 202-482-1560.

SUPPLEMENTARY INFORMATION:

Background

Commerce regulations provide that it will publish in the Federal Register a list of scope rulings on a quarterly basis.¹ Our most recent notification of scope rulings was published on 02/12/2020.² This current notice covers all scope rulings and anti-circumvention determinations made by Enforcement and Compliance between October 1, 2019 through December 31, 2019.

¹ See 19 CFR 351.225(o).

² See Notice of Scope Rulings, 85 FR 7921 (Feb. 12, 2020).

Scope Rulings Made October 1, 2019 Through December 31, 2019

Italy

A-475-839: Forged Steel Fittings From Italy

Requestor: Vetco Gray Inc., a wholly-owned subsidiary of Baker Hughes, a GE Company. Eight component parts of tubular connectors used with oil country tubular goods for offshore oil and gas drilling and extraction (OCTG connectors) are not covered by the scope of the antidumping duty order on forged steel fittings from Italy because these parts are made to comply with a Vetco proprietary standard, are different from the industry standards of in-scope merchandise, and have different specifications from in-scope merchandise; October 28, 2019.

People's Republic of China

A-570-967 and C-570-968: Aluminum Extrusions From the People's Republic of China

Requestor: Air Master Awning LLC. Aluminum jalousie shutters exported from the Dominican Republic that are manufactured from window frame extrusions produced in the People's Republic of China (China) are within the scope of the antidumping and countervailing duty orders on aluminum extrusions from China because: (1) Their physical characteristics meet the criteria for being subject to the orders; and (2) the processing performed in the Dominican Republic does not substantially transform the product and, therefore, China is the country of origin; October 15, 2019.

A-570-943 and C-570-944: Certain Oil Country Tubular Goods From the People's Republic of China

On July 22, 2019, the United States Court of International Trade issued its final judgment in Bell Supply Co. v. United States, Court No. 14-00066, affirming Commerce's remand redetermination concerning the final scope ruling, which found that seamless unfinished OCTG from China finished in third countries is not substantially transformed by the third country processing and is therefore covered by the scope of the Orders. There is now a final court decision, applicable August 1, 2019, with respect to the Bell Supply Scope Ruling; October 15, 2019.

A-570-067; A-475-839; A-583-863 and C-570-068: Forged Steel Fittings From the People's Republic of China, Italy and Taiwan

Requestor: Propulse, a Scheiffer Company. Hydraulic hose fittings made to either the ISO 12151-2 or 12151-6 standard, to the extent such fittings are not also manufactured to the specifications of ASME B16.11, MSS SP-79, MSS SP-83, MSS SP-97, ASTM A105, ASTM A350, and ASTM A182, are outside the scope of the antidumping and countervailing duty orders on forged steel fittings from China and the antidumping duty orders of forged steel fittings from Italy and Taiwan because they are used to connect hoses and tubes that convey noncorrosive fluid through machines and therefore differ from the subject merchandise, which is primarily used to distribute high pressure or corrosive liquids in the end markets of oil and gas; October 15, 2019.

A-570-886: Polyethylene Retail Carrier Bags From the People's Republic of China

Requestor: Nashville Wraps, LLC; gift bags (product codes: 634313012803, 634313012889, 634313025896, 634313066448, 634313012827, 634313012902, 634313025926, 634313025933, 634313012193, 634313012230, 634313012209, 634313012247, 634313015415, 634313015446, 634313012261, 634313034270, 634313012278, 634313034287, 634313066257, 634313012292, 634313034294, 3431305533, 634313055343, 634313055367, 634313055374, 6343130039527, 634313041094, 634313041100, 634313034232, 634313034249, 634313055275, 634313055282, 634313055350, 634313055299, 634313055312, 634313055305, 634313045023, 634313045047, 634313045030, 634313045061, 6343130024103, 634313056340, 634313056326) imported from China are outside the scope of the antidumping duty order; October 22, 2019.

A-570-967 and C-570-968: Aluminum Extrusions From the People's Republic of China

Requestor: Fasnap Corporation. Fasnap Corporation's aluminum boat telescoping poles are outside the scope of the antidumping and countervailing duty orders on aluminum extrusions from China because they meet the criteria for exclusion as finished merchandise; October 31, 2019.

A-570-053 and C-570-054: Aluminum Foil From the People's Republic of China

Requestor: Global Foils LLC. Global Foils' high-quality small rolled aluminum foils are outside the scope of the antidumping and countervailing duty orders on aluminum foil from China because they do not meet the weight threshold for subject merchandise specified in the scope language; November 1, 2019.

A-570-967 and C-570-968: Aluminum Extrusions From the People's Republic of China

Requestor: Ericsson, Inc. Ericsson's mounting kits for telecommunications equipment are included within the scope of the antidumping and countervailing duty orders on aluminum extrusions from China because they do not meet the criteria for exclusion as a finished goods kit or finished merchandise; November 22, 2019.

A-570-901: Lined Paper Products From the People's Republic of China

Requestor: Tree & Journal LLC. Three types of bamboo journals are not covered by the scope of the antidumping duty order on lined paper products from China because the dimensions of the journals fall outside the dimensions listed for subject merchandise in the scope of the order; December 3, 2019.

A-570-090 and C-570-091: Certain Steel Wheels 12 to 16.5 Inches in Diameter From the People's Republic of China

Requestor: Allied Wheel Components, Inc. (Allied Wheel). Commerce determined that certain of Allied Wheel's passenger vehicle winter/snow steel wheels are outside the scope of the antidumping and countervailing duty orders on certain steel wheels 12 to 16.5 inches in diameter from China because they have: (1) Larger offsets; (2) different hub bore sizes; and/or (3) lower load ratings that make them unsuitable for use on trailers or towable equipment; December 16, 2019.

A-570-090 and C-570-091: Certain Steel Wheels 12 to 16.5 Inches in Diameter From the People's Republic of China

Requestor: Wheel Source, Inc. (Wheel Source). Commerce determined that certain of Wheel Source's passenger vehicle wheels with a nominal wheel diameter of more than 16.5 inches are outside the scope of the antidumping and countervailing duty orders on certain steel wheels 12 to 16.5 inches in diameter from China based on the plain language of the scope, which covers steel wheels with a nominal wheel diameter of 12 to 16.5 inches. Additionally, Commerce determined that certain of Wheel Source's passenger vehicle wheels are outside the scope of the antidumping and countervailing duty orders on certain steel wheels 12 to 16.5 inches in diameter from China because they have: (1) Different disc profiles to accommodate vehicle disc brakes and calipers; and (2) lower load ratings that make them unsuitable for use on trailers or towable equipment; December 20, 2019.

Republic of Korea

A-580-878 and C-580-879: Certain Corrosion-Resistant Steel Products From the Republic of Korea

Requestor: The scope proceedings were self-initiated by Commerce based upon information it received from U. S. Customs and Border Protection. Certain corrosion-resistant steel (CORE) products that exceed 2.50% manganese by weight are not covered by the scope of the antidumping and countervailing duty orders on CORE products from Korea because the products do not meet the requirements of the plain language of the scope which specifically excludes CORE products that exceed 2.50% manganese by weight; November 4, 2019.

Anti-Circumvention Determinations Made October 1, 2019 Through December 31, 2019

People's Republic of China

A-570-051 and C-570-052: Hardwood Plywood From the People's Republic of China

Requestor: Coalition for Fair Trade in Hardwood Plywood. Certain plywood products with face and back veneers of radiata and/or agathis pine that: (1) Have a Toxic Substances Control Act (TSCA) or California Air Resources Board (CARB) label certifying that it is compliant with TSCA/CARB requirements; and (2) are made with a resin, the majority of which is comprised of one or more of three product types (urea formaldehyde, polyvinyl acetate, and/or soy), exported from China, are circumventing the antidumping countervailing duty orders on certain hardwood plywood products from China and are included in the orders; November 22, 2019.

Republic of Korea

A-580-878 and C-580-879: Certain Corrosion-Resistant Steel Products From the Republic of Korea

Anti-circumvention Inquiries (Through Vietnam): These anti-circumvention inquiries cover CORE produced in Vietnam from hot-rolled steel (HRS) or cold-rolled steel (CRS) substrate input manufactured in Korea and subsequently exported from Vietnam to the United States (merchandise under consideration). These final rulings apply to all shipments of merchandise under consideration on or after the date of initiation of these inquiries. Importers and exporters of CORE produced in Vietnam using: (1) HRS manufactured in Vietnam or third countries; (2) CRS manufactured in Vietnam using HRS produced in Vietnam or third countries; and/or (3) CRS manufactured in third countries, and who qualify to participate in the certification process, must certify that the HRS or CRS processed into CORE in Vietnam did not originate in Korea, as provided for in the certifications attached to the Federal Register notice. Otherwise, their merchandise may be subject to antidumping and countervailing duties; December 16, 2019.

A-580-881 and C-580-882: Certain Cold-Rolled Steel Flat Products From the Republic of Korea

Requestors: ArcelorMittal USA LLC; California Steel Industries; Nucor Corporation; Steel Dynamics, Inc.; United States Steel Corporation. Imports of certain cold-rolled steel flat products, produced in Vietnam using carbon hot-rolled steel manufactured in Korea, are circumventing the antidumping and countervailing duty orders on certain cold-rolled steel flat products from Korea; December 26, 2019.

Taiwan

A-583-856: Corrosion-Resistant Steel Products From Taiwan

Requesters: Nucor Corporation, ArcelorMittal USA LLC, United States Steel Corporation, California Steel Industries, and Steel Dynamics, Inc. CORE produced in Vietnam from HRS and/or CRS substrate produced in Taiwan and subsequently exported to the United States from Vietnam are circumventing the antidumping duty order on CORE from Taiwan; December 26, 2019.

Notification to Interested Parties

Interested parties are invited to comment on the completeness of this list of completed scope inquiries and anti-circumvention determinations made during the period October 1, 2019 through December 31, 2019. Any comments should be submitted to the Deputy Assistant Secretary for Antidumping and Countervailing Duty Operations, Enforcement and Compliance, International Trade Administration, 1401 Constitution Avenue NW, APO/Dockets Unit, Room 18022, Washington, DC 20230.

This notice is published in accordance with 19 CFR 351.225(o).

Dated: February 26, 2020.
James Maeder,
Deputy Assistant Secretary for Antidumping and Countervailing Duty Operations.

[FR Doc. 2020-04341 Filed 3-2-20; 8:45 am]

BILLING CODE 3510-DS-P